FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 012486-001.

Agreement Name: Crowley/King Ocean Vessel Sharing Agreement.

Parties: Crowley Latin America Services, LLC; King Ocean Services Limited, Inc.

Filing Party: Wayne Rohde; Cozen O'Connor.

Synopsis: The Amendment revises Article 8 to extend the duration of the Agreement.

Proposed Effective Date: 3/4/2024.

Location: https://www2.fmc.gov/FMC.Agreements.Web/Public/AgreementHistory/2005.

Agreement No.: 201416.

Agreement Name: CMA CGM to ONE USEC—Caribbean—WCSA Space Charter Agreement.

Parties: CMA CGM S.A.; Ocean Network Express Pte. Ltd.

Filing Party: Draughn Arbona; CMA CGM S.A.

Synopsis: The Agreement authorizes CMA CGM to charter space to ONE in the trade between Colombia, Ecuador, Peru, Chile on the one hand, and the U.S. East Coast on the other hand.

Proposed Effective Date: 1/18/2024.

Location: https://www2.fmc.gov/FMC.Agreements.Web/Public/AgreementHistory/86542.

Dated: January 19, 2024.
Alanna Beck,
Federal Register Alternate Liaison Officer, Federal Maritime Commission.

[FR Doc. 2024-01339 Filed 1-23-24; 8:45 am]

BILLING CODE 6730-02-P